FEDERAL COMMUNICATIONS COMMISSION

47 CFR Part 73

[DA 01-136; MM Docket No. 00-101; RM-9885]

Radio Broadcasting Services; Sparta and Buckhead, GA

AGENCY: Federal Communications Commission.

ACTION: Final rule.

SUMMARY: As the result of a Petition for Reconsideration filed by Barinoski Investment Company, this document substitutes Channel 274C3 for Channel 274A at Sparta, Georgia, reallots Channel 274C3 to Buckhead, Georgia, and modifies the Station WPMA license to specify operation on Channel 274C3 at Buckhead, Georgia. See 65 FR 4491, published January 27, 2000. The reference coordinates for the Channel 274C3A allotment at Buckhead, Georgia, are 33-31-40 and 83-18-45. With this action, the proceeding is terminated.

DATES: Effective as March 9, 2001.

FOR FURTHER INFORMATION CONTACT: Robert Hayne, Mass Media Bureau, (202) 418-2177.

SUPPLEMENTARY INFORMATION: This is a synopsis of the Commission's Memorandum Opinion and Order in MM Docket No. 00-101, adopted January 17, 2001, and released January 19, 2001. The full text of this decision is available for inspection and copying during normal business hours in the FCC's Reference Information Center at Portals II, CY-A257, 445 12th Street SW., Washington DC. The complete text of this decision may also be purchased from the Commission's copy contractor, International Transcription Service, Inc., (202) 857-3800, 1231 20th Street NW., Washington DC 20036.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Georgia, is amended by removing Channel 274A at Sparta.

3. Section 73.202(b), the Table of FM Allotments under Georgia, is amended by adding Buckhead, Channel 274C3.

Federal Communications Commission.
John A. Karousos,
Chief, Allocations Branch, Policy and Rules Division, Mass Media Bureau.

[FR Doc. 01-2752 Filed 1-31-01; 8:45 am]

BILLING CODE 6712-01-P